FEDERAL COMMUNICATIONS COMMISSION

[CG Docket No. 03-123 and WC Docket No. 05-196; DA 09-870]

Pleading Cycle Established for Filing of Oppositions To Petition for Partial Reconsideration and Limited Waiver, and Petition for Partial Reconsideration, Concerning the Assignment of Ten-Digit Telephone Numbers and E911 Requirements for Internet-Based Telecommunications Relay Service (TRS)

AGENCY: Federal Communications Commission.

ACTION: Notice.

SUMMARY: In this document, the Commission, via the Consumer and Governmental Affairs Bureau, announces the filing of petitions for partial reconsideration by Telecommunications for the Deaf and Hard of Hearing, Inc. and five consumer organizations (TDI Coalition), and GoAmerica, Inc. (GoAmerica). Petitioners seek reconsideration of the eligibility requirement that limits the assignment of ten-digit telephone numbers to individuals who are deaf or hard of hearing or who have a speech disability. Additionally, GoAmerica seeks reconsideration, or a limited waiver for six months, of the requirement that Internet-based TRS providers must answer a call back from the Public Safety Answering Point (PSAP) with priority (i.e., move the call to the top of the queue).

DATES: Oppositions are due on or before June 4, 2009 and replies to oppositions are due on or before June 15, 2009.

ADDRESSES: Pursuant to 47 CFR 1.429(f) and (g), interested parties may submit oppositions or replies to oppositions identified by [CG Docket No. 03-123 and WC Docket No. 05-196], by any of the following methods:

• Federal eRulemaking Portal: http://www.regulations.gov. Follow the instructions for submitting electronic filings.

• Federal Communications Commission's Electronic Comment Filing System (ECFS): Follow the instructions for submitting electronic filings.

• By filing paper copies.

For electronic filers through ECFS or the Federal eRulemaking Portal, because multiple docket numbers appear in the caption of this proceeding, filers must transmit one electronic copy of the opposition or reply to opposition to each docket number referenced in the caption. In completing the transmittal screen, filers should include their full name, U.S. Postal Service mailing address, and the applicable docket number. Parties may also submit an electronic comment by Internet e-mail. To get filing instructions, filers should send an e-mail to ecfs@fcc.gov, and include the following words in the body of the message, “get form.” A sample form and directions will be sent in response.

Paper Filers: Parties who choose to file by paper must file an original and four copies of each filing. Because more than one docket number appears in the caption in this proceeding, filers must submit two additional copies for each additional docket number. Filings can be sent by hand or messenger delivery, by commercial overnight courier, or by first-class or overnight U.S. Postal Service mail (although the Commission continues to experience delays in receiving U.S. Postal Service mail). All filings must be addressed to the Commission's Secretary, Office of the Secretary, Federal Communications Commission. Parties who choose to file by paper should also submit their documents on a compact disc. The compact disc should be submitted, along with three paper copies, to: Dana Wilson, Consumer and Governmental Affairs Bureau, Disability Rights Office, 445 12th Street, SW., Room 3-C418, Washington, DC 20554. Such a submission should be on a compact disc formatted in an IBM compatible format using Word 2003 or compatible software. The compact disc should be accompanied by a cover letter and should be submitted in “read only” mode. It should also be clearly labeled with the party's name, the proceedings (including the docket numbers) which in this case are [CG Docket No. 03-123 and WC 05-196], type of pleading (opposition or reply to opposition), date of submission, and the name of the electronic file on the compact disc. The label should also include the following phrase “Disc Copy—Not an Original.” Each compact disc should contain only one party's pleadings, preferably in a single electronic file. In addition, paper filers must send compact disc copies to the Commission's copy contractor, Portals II, 445 12th Street, SW., Room CY-B402, Washington, DC 20554.

The Commission's contractor will receive hand-delivered or messenger-delivered paper filings and electronic media for the Commission's Secretary at 236 Massachusetts Avenue, NE., Suite 110, Washington, DC 20002. The filing hours at this location are 8 a.m. to 7 p.m. All hand deliveries must be held together with rubber bands or fasteners. Any envelopes must be disposed of before entering the building.

Commercial mail and electronic media sent by overnight mail (other than U.S. Postal Service Express Mail and Priority Mail) must be sent to 9300 East Hampton Drive, Capitol Heights, MD 20743. U.S. Postal Service first-class, Express, and Priority mail should be addressed to 445 12th Street, SW., Washington, DC 20554.

FOR FURTHER INFORMATION CONTACT: Gregory Hlibok, Consumer and Governmental Affairs Bureau at (866) 954-4053 (voice and videophone), (202) 418-0431 (TTY), or e-mail: Gregory.Hlibok@fcc.gov.

SUPPLEMENTARY INFORMATION: This is a summary of the Commission's document DA 09-870, released April 20, 2009, which announces the January 29, 2009 filing by TDI Coalition of a Petition for Partial Reconsideration, and by GoAmerica of a Petition for Partial Reconsideration and Limited Waiver, of Telecommunications Relay Services and Speech-to-Speech Services for Individuals with Hearing and Speech Disabilities; E911 Requirements for IP-Enabled Service Providers, CG Docket No. 03-123, WC Docket No. 05-196, Second Report and Order and Order on Reconsideration, document FCC 08-275; published at 73 FR 79683, December 30, 2008 (Second Internet-Based TRS Order).

Pursuant to 47 CFR 1.1206, this proceeding will be conducted as a permit-but-disclose proceeding in which ex parte communications are subject to disclosure. The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contractor at Portals II, 445 12th Street, SW, Room CY-B402, Washington, DC 20554. Customers may contact the Commission's contractor at its Web site http://www.bcpiweb.com, by e-mail at fcc@bcpiweb.com, or by calling 1-800-378-3160. A copy of the underlying petitions may also be found by searching ECFS at http://www.fcc.gov/cgb/ecfs. To request materials in accessible formats for people with disabilities (Braille, large print, electronic files, audio format), send an e-mail to fcc504@fcc.gov or call the Consumer and Governmental Affairs Bureau at (202) 418-0530 (voice), (202) 418-0432 (TTY). This document can also be downloaded in Word or Portable Document Format (PDF) at: http://www.fcc.gov/cgb/dro/trs.html.

Synopsis

In the Second Internet-Based TRS Order, the Commission concluded, in part, that only individuals with a hearing or speech disability will be eligible to obtain ten-digit telephone numbers under the numbering system adopted in the Telecommunications Relay Services and Speech-to-Speech Services for Individuals with Hearing and Speech Disabilities; E911 Requirement for IP-Enabled Service Providers, CG Docket No. 03-123, WC Docket No. 05-196, Report and Order and Further Notice of Proposed Rulemaking, document FCC 08-151 (Internet-Based TRS Order); published at 73 FR 41286, July 18, 2008 and 73 FR 41307, July 18, 2008. To this end, the Commission also required providers to verify that persons receiving ten-digit numbers “have a medically recognized hearing or speech disability necessitating their use of TRS” through a self-certification process. TDI Coalition and GoAmerica seek reconsideration of this eligibility requirement that limits the assignment of ten-digit telephone numbers to individuals who are deaf or hard of hearing or who have a speech disability. TDI Coalition and GoAmerica contend, in part, that allowing assignment of ten-digit numbers to hearing persons would facilitate point-to-point (i.e., non-relay) calls between a voice telephone user and an individual with a hearing or speech disability, and therefore reduce the number of VRS calls that are compensated from the Interstate TRS Fund.

In addition, GoAmerica requests that the Commission grant reconsideration or a limited waiver for six months of the requirement that Internet-based TRS providers answer a call back from the PSAP with priority. GoAmerica asserts that providers are not capable of meeting this requirement at the present time and are working collaboratively on a technical solution.

Federal Communications Commission.
Suzanne Tetreault,
Deputy Chief, Consumer and Governmental Affairs Bureau.

[FR Doc. E9-11738 Filed 5-19-09; 8:45 am]

BILLING CODE 6712-01-P